DEPARTMENT OF THE INTERIOR

Bureau of Land Management

[WY-950-1420-00-P]

Filing of Plats of Survey; Wyoming

AGENCY: Bureau of Land Management, Interior.

ACTION: Notice.

The plats of the following described lands were officially filed in the Wyoming State Office, Bureau of Land Management, Cheyenne, Wyoming, effective 10 a.m., April 23, 2001.

The plat representing the dependent resurvey of a portion of the subdivisional lines, portions of Mineral Surveys 85, 92, 96, 157 and 264, and Mineral Surveys 117, 146, 147, 150, 152, and 441, T. 16 N., R. 80 W., Sixth Principal Meridian, Wyoming, Group No. 493, was accepted April 23, 2001.

The plat representing the dependent resurvey of a portion of the Fourteenth Guide Meridian West, through Township 30 North, between Ranges 112 and 113 West, and a portion of the subdivisional lines, and the subdivision of section 18, T. 30 N., R. 112 W., Sixth Principal Meridian, Wyoming, Group No. 658, was accepted April 23, 2001.

The plat representing the dependent resurvey of portions of the Twelfth Standard Parallel North, through Range 102 West, Tract 38, and portions of the subdivisional lines, and the subdivision of sections 4 and 5, T. 48 N., R. 102 W., Sixth Principal Meridian, Wyoming, Group No. 666, was accepted April 23, 2001.

Dated: April 23, 2001.
John P. Lee,
Chief, Cadastral Survey Group.

[FR Doc. 01-12273 Filed 5-15-01; 8:45 am]

BILLING CODE 4310-22-P